DEPARTMENT OF HOMELAND SECURITY

Transportation Security Administration

Notice of Intent To Request Approval From the Office of Management and Budget (OMB) for Three New Public Collections of Information; Transportation Worker Identification Credential (TWIC); Transportation Worker Survey; Lead Stakeholder Port Security Interviews

AGENCY: Transportation Security Administration (TSA), DHS.

ACTION: Notice.

SUMMARY: TSA invites public comment on three new information collection requirements abstracted below that will be submitted to OMB in compliance with the Paperwork Reduction Act.

DATES: Send your comments by August 25, 2003.

ADDRESSES: Comments may be mailed or delivered to Elaine Charney, TWIC Program Office, TSA Headquarters, West Tower, Floor 9, TSA-8, 601 South 12th Street, Arlington, VA 22202-4220.

FOR FURTHER INFORMATION CONTACT: Conrad Huygen, Office of Information Management Programs, TSA Headquarters, West Tower, Floor 4, TSA-17, 601 South 12th Street, Arlington, VA 22202-4220; telephone (571) 227-1954; facsimile (571) 227-2912.

SUPPLEMENTARY INFORMATION: In accordance with the Paperwork Reduction Act of 1995, (44 U.S.C. 3501 et seq.), an agency may not conduct or sponsor, and a person is not required to respond to a collection of information, unless it displays a valid OMB control number. Therefore, in preparation for submission of the specified information collection, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology where appropriate.

Purpose of Data Collection

The information collected for the TWIC program will be used as a means to enhance access control for individuals requiring unescorted access to secure areas of the national transportation system. TSA intends to evaluate and test certain technologies and business processes in the Technology Evaluation and Prototype Phases of TSA's pilot project to fully develop the program, measure credential performance and effectiveness, collect user feedback, and provide data analysis prior to proceeding to full-scale deployment.

Description of Data Collection

TSA, through a contractor, will issue credentials to a select group of transportation workers and then administer two instruments to collect data on the effectiveness of the TWIC program as well as the satisfaction of the transportation workers who will be using these credentials. TSA intends to collect data via the following instruments:

(1) Transportation Worker Identification Credential (TWIC). The following information will be collected from individual transportation workers and facility operators to create the credential: (a) Individual's name, (b) other identifying data to include address, phone number, social security number, date of birth, and place of birth, (c) company, organization or affiliation, (d) biometric data and digital photograph, and (e) access level information. We estimate a total of 30,000 respondents and, based on an estimate of a ten-minute burden per respondent, a maximum total burden program-wide of approximately 5,000 hours.

(2) Transportation Worker Survey. TSA next intends to conduct a transportation worker survey at each site that is part of the Technology Evaluation and Prototype Phases. The survey will be administered using an intercept methodology in which workers will be provided survey forms either during or after the TWIC is issued. Workers who receive surveys will be selected randomly. The sample of workers receiving surveys at each site will be representative of the demographics of all the workers who are participating in the pilot programs, including workers who access facilities on a 24-hour, 7-day basis.

Participation by workers in the survey will be voluntary. The TSA contractor will administer the survey independent of TSA. The survey will include up to 30 questions about the workers' experience as well as the effectiveness of the TWIC.

Dates, times, and locations will be selected within each site to provide a representation of worker satisfaction and credential effectiveness over the survey period. TSA intends to conduct one survey at each site during each phase of the program, with a target of 5 percent of card population measured at each site during Technology Evaluation and 2 percent during Prototype, and no fewer than 10 workers tested at any given site or card population. We estimate a total of 750 respondents and, based on an estimate of a fifteen-minute burden per respondent, estimate a maximum total burden program-wide of approximately 187.5 hours. There will not be a burden on workers who choose not to respond.

(3) Lead Stakeholder Port Security Interviews. Finally, TSA will have a contractor conduct personal interviews of the lead stakeholder at each site participating in the Technology Evaluation and Prototype Phases. The purpose of the interview will be to record observations on operational impact, system performance and utility, and identify problems that may have arisen in each phase. The results of these interviews will not be as statistically rigorous as the intercept surveys described above, but will be focused on the site's performance perception. The results of these interviews will not be used for any formal performance measurement nor published outside of TSA, but will enable service improvement at each site. Participation by stakeholders will be voluntary. The interview format will come from a list of approximately 30 questions and will be limited to fifteen minutes per respondent. Based on a projected total of 30 respondents, there will be an estimated aggregate system-wide burden of 7.5 hours. There will be no burden on stakeholders who choose not to respond.

Use of Results

TSA Headquarters will use the results to evaluate the performance and effectiveness of the TWIC. The results will also be analyzed to support future implementation and program decisions. TSA will further use this data to evaluate the impact of policy or process changes on customer satisfaction, public confidence, and overall security.

Issued in Arlington, Virginia, on June 17, 2003.
Susan T. Tracey,
Deputy Chief Administrative Officer.

[FR Doc. 03-15927 Filed 6-23-03; 8:45 am]

BILLING CODE 4910-62-P